INTERNATIONAL TRADE COMMISSION

[Investigation Nos. 701-TA-249 and 731-TA-262-263 and 265 (Fifth Review)]

Iron Construction Castings From Brazil, Canada, and China

Determination

On the basis of the record ¹ developed in the subject five-year reviews, the United States International Trade Commission (“Commission”) determines, pursuant to the Tariff Act of 1930 (“the Act”), that revocation of the countervailing duty order on heavy iron construction castings from Brazil, the antidumping duty order on heavy iron construction castings from Canada, and the antidumping duty orders on iron construction castings from Brazil and China would be likely to lead to continuation or recurrence of material injury to pertinent industries in the United States within a reasonably foreseeable time.

¹ The record is defined in § 207.2(f) of the Commission's Rules of Practice and Procedure (19 CFR 207.2(f)).

Background

The Commission instituted these reviews on December 1, 2021 (86 FR 68283) and determined on March 7, 2022, that it would conduct expedited reviews (87 FR 21136, April 11, 2022).

The Commission made these determinations pursuant to section 751(c) of the Act (19 U.S.C. 1675(c)). It completed and filed its determinations in these reviews on May 13, 2022. The views of the Commission are contained in USITC Publication 5324 (May 2022), entitled Iron Construction Castings from Brazil, Canada, and China: Investigation Nos. 701-TA-249 and 731-TA-262-263 and 265 (Fifth Review).

By order of the Commission.
Issued: May 13, 2022.
Lisa Barton,
Secretary to the Commission.

[FR Doc. 2022-10694 Filed 5-17-22; 8:45 am]

BILLING CODE 7020-02-P